DEPARTMENT OF ENERGY

Federal Energy Regulatory Commission

[Docket Nos. IC10-511-001 and IC10-515-001]

Commission Information Collection Activities (FERC-511 and FERC-515); Comment Request; Submitted for OMB Review

November 10, 2010.

AGENCY: Federal Energy Regulatory Commission, Energy.

ACTION: Notice.

SUMMARY: In compliance with the requirements of section 3507 of the Paperwork Reduction Act of 1995, 44 U.S.C. 3507, the Federal Energy Regulatory Commission (Commission or FERC) has submitted the information collections described below to the Office of Management and Budget (OMB) for review of the information collections requirements. Any interested person may file comments directly with OMB and should address a copy of those comments to the Commission as explained below. The Commission issued a Notice in the Federal Register (75FR 157, 08/16/2010) requesting public comments. FERC received no comments on the FERC-511 or the FERC-515 and has made this notation in its submission to OMB.

DATES: Comments on the collection of information are due by December 20, 2010.

ADDRESSES: Address comments on the collection of information to the Office of Management and Budget, Office of Information and Regulatory Affairs, Attention: Federal Energy Regulatory Commission Desk Officer. Comments to OMB should be filed electronically, c/o oira_submission@omb.eop.gov and include OMB Control Numbers 1902-0069 (for FERC-511) and 1902-0079 (for FERC-515) as a point of reference. For comments that pertain to only one of the collections, specify the appropriate collection and OMB Control Number. The Desk Officer may be reached by telephone at 202-395-4638.

A copy of the comments should also be sent to the Federal Energy Regulatory Commission and should refer to Docket Nos. IC10-511-001 and IC10-515-001. (If comments apply to only one of the collections, indicate the corresponding docket and collection number.) Comments may be filed either electronically or in paper format. Those persons filing electronically do not need to make a paper filing. Documents filed electronically via the Internet must be prepared in an acceptable filing format and in compliance with the Federal Energy Regulatory Commission submission guidelines. Complete filing instructions and acceptable filing formats are available at http://www.ferc.gov/help/submission-guide.asp. To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

For paper filings, the comments should be submitted to the Federal Energy Regulatory Commission, Secretary of the Commission, 888 First Street, NE., Washington, DC 20426, and should refer to the appropriate Docket No.

Users interested in receiving automatic notification of activity in FERC Docket Nos. IC10-511 and IC10-515 may do so through eSubscription at http://www.ferc.gov/docs-filing/esubscription.asp. All comments may be viewed, printed or downloaded remotely via the Internet through FERC's homepage using the “eLibrary” link. For user assistance, contact ferconlinesupport@ferc.gov or toll-free at (866) 208-3676, or for TTY, contact (202) 502-8659.

FOR FURTHER INFORMATION CONTACT: Ellen Brown may be reached by e-mail at DataClearance@FERC.gov, by telephone at (202) 502-8663, and by fax at (202) 273-0873.

SUPPLEMENTARY INFORMATION: For the purpose of publishing this notice and seeking public comment, FERC requests comments on both FERC-511 (Application for Transfer of License; OMB Control No. 1902-0069), and FERC-515 (Hydropower Licensing: Declaration of Intention; OMB Control No. 1902-0079). The associated regulations, reporting requirements, burdens, and OMB clearance numbers will continue to remain separate and distinct for FERC-511 and FERC-515.

FERC-511: The information collected under the requirements of FERC-511 is used by the Commission to implement the statutory provisions of sections 4(e) and 8 of the Federal Power Act (FPA) (16 U.S.C. 797(e) and 801). Section 4(e) authorizes the Commission to issue licenses for the construction, operation and maintenance of reservoirs, powerhouses, and transmission lines or other facilities necessary for the development and improvement of navigation and for the development, transmission, and utilization of power.¹ Section 8 of the FPA provides that the voluntary transfer of any license can only be made with the written approval of the Commission. Any successor to the licensee may assign the rights of the original licensee but is subject to all of the conditions of the license. The information filed with the Commission is a mandatory requirement contained in the format of a written application for transfer of license, executed jointly by the parties of the proposed transfer. The transfer of a license may be occasioned by the sale or merger of a licensed hydroelectric project. It is used by the Commission's staff to determine the qualifications of the proposed transferee to hold the license, and to prepare the transfer of the license order. Approval by the Commission of transfer of a license is contingent upon the transfer of title to the properties under license, delivery of all license instruments, and a showing that such transfer is in the public interest. The Commission implements these filing requirements in the Code of Federal Regulations (CFR) under 18 CFR Part 9.

¹ Refers to facilities across, along, from, or in any of the streams or other bodies of water over which Congress has jurisdiction under its authority to regulate commerce with foreign nations and among the several Sates, or upon any part of public lands and reservations of the United States, or for the purpose of utilizing the surplus water or water power from any Government dam.

FERC-515: The information collected under the requirements of FERC-515 is used by the Commission to implement the statutory provisions of Part I, Section 23(b) of the Federal Power Act (16 USC 817). Section 23(b) authorized the Commission to make a determination as to whether it has jurisdiction over a proposed water project ² not affecting navigable waters ³ but across, along, over, or in waters over which Congress has jurisdiction under its authority to regulate commerce with foreign nations and among the several States. Section 23(b) requires that any person intending to construct project works on such waters must file a declaration of their intention with the Commission. If the Commission finds the proposed project will have an impact on interstate or foreign commerce, then the person intending to construct the project must obtain a Commission license or exemption before starting construction.⁴ The information is collected in the form of a written application, containing sufficient details to allow the Commission staff to research the jurisdictional aspects of the project. This research includes examining maps and land ownership records to establish whether or not there is Federal jurisdiction over the lands and waters affected by the project. A finding of non-jurisdictional by the Commission eliminates a substantial paperwork burden for the applicant who might otherwise have to file for a license or exemption application. The Commission implements these filing requirements under 18 CFR Part 24.

² Dams or other project works (see 16 U.S.C. 817).

³ See 16 U.S.C. 796(8) for the definition of “Navigable Waters”.

⁴ Upon a finding of non-jurisdictional by the Commission, and if no public lands or reservations are affected, permission is granted upon compliance with State laws.

Action: The Commission is requesting a three-year extension of the current expiration dates for FERC-511 and FERC-515, with no changes.

Burden Statement: Total annual burden hours for these collections are estimated as:

FERC Data collection | Number of respondents annually (1) | Average number of responses per respondent (2) | Average burden hours per response (3) | Total annual burden hours (1) × (2) × (3)
FERC-511 | 23 | 1 | 40 | 920
FERC-515 | 10 | 1 | 80 | 800

Total annual costs for these collections are estimated as:

FERC data collection | Cost burden per respondent | Total cost burden to respondents ⁵
FERC-511 | $2,651 | $60,983
FERC-515 | $5,303 | $53,028
⁵ Estimated number of hours an employee works each year = 2080, estimated average annual cost per employee = $137,874. Ex: $60,983 = (920 hours/2080 hours) * $137,874

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimate of the burden of the proposed collections of information, including the validity of the methodology and assumptions used; (3) ways to enhance the quality, utility and clarity of the information to be collected; and (4) ways to minimize the burden of the collections of information on those who are to respond, including the use of appropriate automated, electronic, mechanical, or other technological collection techniques or other forms of information technology, e.g. permitting electronic submission of responses.

Kimberly D. Bose,
Secretary.

[FR Doc. 2010-29059 Filed 11-17-10; 8:45 am]

BILLING CODE 6717-01-P